Title 3—

The President

Proclamation 8117 of March 27, 2007

National Child Abuse Prevention Month, 2007

By the President of the United States of America

A Proclamation

All Americans share a responsibility to protect our Nation's children. During National Child Abuse Prevention Month, we renew our commitment to prevent child abuse and neglect and to work to enable our children to realize their full potential.

Childhood is a formative time, and abuse can have devastating long-term effects on young lives. In order to provide a safe environment for our young people, parents must work to protect their children from the dangers that threaten them. Family members, educators, public officials, and faith-based and community organizations all play important roles in helping to ensure that children are safe and can grow surrounded by love and stability.

My Administration is committed to supporting children and promoting safe and stable families across America. Last year, I signed into law the Child and Family Services Improvement Act of 2006, which will help to prevent and address child abuse and neglect by improving child welfare services and continuing vital mentoring and family programs. Additionally, the Department of Justice's Project Safe Childhood program and the Adam Walsh Child Protection and Safety Act of 2006 help officials at all levels of government protect our children and bring sexual and online predators, Internet pornographers who prey on our children, and other violent criminals to justice with stronger laws and improved coordination among authorities.

As we observe National Child Abuse Prevention Month, we underscore our commitment to building an America where all children can thrive, develop character, and learn to be responsible citizens in an environment of security and love. By honoring our obligation to support and protect our young people, all Americans have an opportunity to make a positive difference in the life of a child and build a brighter future for our country. For more information about how each of us can help stop child abuse, please visit childwelfare.gov.

NOW, THEREFORE, I, GEORGE W. BUSH, President of the United States of America, by virtue of the authority vested in me by the Constitution and laws of the United States, do hereby proclaim April 2007 as National Child Abuse Prevention Month. I encourage all citizens to help protect our children and work to create strong, healthy communities.

IN WITNESS WHEREOF, I have hereunto set my hand this twenty-seventh day of March, in the year of our Lord two thousand seven, and of the Independence of the United States of America the two hundred and thirty-first.

[FR Doc. 07-1626

Filed 3-29-07; 11:45 am]

Billing code 3195-01-P